DEPARTMENT OF HOMELAND SECURITY

Federal Emergency Management Agency

44 CFR Part 67

[Docket No. FEMA-B-7774]

Proposed Flood Elevation Determinations

AGENCY: Federal Emergency Management Agency, DHS.

ACTION: Proposed rule.

SUMMARY: Comments are requested on the proposed Base (1 percent annual-chance) Flood Elevations (BFEs) and proposed BFE modifications for the communities listed in the table below. The purpose of this notice is to seek general information and comment regarding the proposed regulatory flood elevations for the reach described by the downstream and upstream locations in the table below. The BFEs and modified BFEs are a part of the floodplain management measures that the community is required either to adopt or show evidence of having in effect in order to qualify or remain qualified for participation in the National Flood Insurance Program (NFIP). In addition, these elevations, once finalized, will be used by insurance agents, and others to calculate appropriate flood insurance premium rates for new buildings and the contents in those buildings.

DATES: Comments are to be submitted on or before July 28, 2008.

ADDRESSES: The corresponding preliminary Flood Insurance Rate Map (FIRM) for the proposed BFEs for each community are available for inspection at the community's map repository. The respective addresses are listed in the table below.

You may submit comments, identified by Docket No. FEMA-B-7774, to William R. Blanton, Jr., Chief, Engineering Management Branch, Mitigation Directorate, Federal Emergency Management Agency, 500 C Street, SW., Washington, DC 20472, (202) 646-3151, or (e-mail) bill.blanton@dhs.gov.

FOR FURTHER INFORMATION CONTACT: William R. Blanton, Jr., Chief, Engineering Management Branch, Mitigation Directorate, Federal Emergency Management Agency, 500 C Street, SW., Washington, DC 20472, (202) 646-3151 or.(e-mail) bill.blanton@dhs.gov.

SUPPLEMENTARY INFORMATION: The Federal Emergency Management Agency (FEMA) proposes to make determinations of BFEs and modified BFEs for each community listed below, in accordance with section 110 of the Flood Disaster Protection Act of 1973, 42 U.S.C. 4104, and 44 CFR 67.4(a).

These proposed BFEs and modified BFEs, together with the floodplain management criteria required by 44 CFR 60.3, are the minimum that are required. They should not be construed to mean that the community must change any existing ordinances that are more stringent in their floodplain management requirements. The community may at any time enact stricter requirements of its own, or pursuant to policies established by other Federal, State, or regional entities. These proposed elevations are used to meet the floodplain management requirements of the NFIP and are also used to calculate the appropriate flood insurance premium rates for new buildings built after these elevations are made final, and for the contents in these buildings.

Comments on any aspect of the Flood Insurance Study and FIRM, other than the proposed BFEs, will be considered. A letter acknowledging receipt of any comments will not be sent.

Administrative Procedure Act Statement. This matter is not a rulemaking governed by the Administrative Procedure Act (APA), 5 U.S.C. 553. FEMA publishes flood elevation determinations for notice and comment; however, they are governed by the Flood Disaster Protection Act of 1973, 42 U.S.C. 4105, and the National Flood Insurance Act of 1968, 42 U.S.C. 4001 et seq., and do not fall under the APA.

National Environmental Policy Act. This proposed rule is categorically excluded from the requirements of 44 CFR part 10, Environmental Consideration. An environmental impact assessment has not been prepared.

Regulatory Flexibility Act. As flood elevation determinations are not within the scope of the Regulatory Flexibility Act, 5 U.S.C. 601-612, a regulatory flexibility analysis is not required.

Executive Order 12866, Regulatory Planning and Review. This proposed rule is not a significant regulatory action under the criteria of section 3(f) of Executive Order 12866, as amended.

Executive Order 13132, Federalism. This proposed rule involves no policies that have federalism implications under Executive Order 13132.

Executive Order 12988, Civil Justice Reform. This proposed rule meets the applicable standards of Executive Order 12988.

List of Subjects in 44 CFR Part 67

Administrative practice and procedure, Flood insurance, Reporting and recordkeeping requirements.

Accordingly, 44 CFR part 67 is proposed to be amended as follows:

PART 67—[AMENDED]

1. The authority citation for part 67 continues to read as follows:

Authority: 42 U.S.C. 4001 et seq.; Reorganization Plan No. 3 of 1978, 3 CFR, 1978 Comp., p. 329; E.O. 12127, 44 FR 19367, 3 CFR, 1979 Comp., p. 376.

§ 67.4 [Amended]

2. The tables published under the authority of § 67.4 are proposed to be amended as follows:

Flooding source(s) | Location of referenced elevation** | * Elevation in feet (NGVD) +Elevation in feet (NAVD) # Depth in feet above ground: Effective | * Elevation in feet (NGVD) +Elevation in feet (NAVD) # Depth in feet above ground: Modified | Communities affected
Taylor County, Florida, and Incorporated Areas
Aucilla River | At U.S. Highway 98 | None | +10 | Unincorporated Areas of Taylor County.
| At the Taylor/Madison County boundary | None | +45 |
Pimple Creek | Approximately 600 feet upstream of the confluence with Spring Creek | +36 | +37 | City of Perry.
| Approximately 400 feet downstream of Cherry Street | +42 | +41 |
Pimple Creek East Branch | Just upstream of Johnson Stripling Road | +43 | +44 | City of Perry.
| Approximately 2,000 feet upstream of the confluence with Pimple Creek | +44 | +45 |
Rocky Creek | At the confluence with Spring Street | None | +25 | Unincorporated Areas of Taylor County.
| Approximately 1,300 feet upstream of U.S. Highway 221 | None | +56
* National Geodetic Vertical Datum.
+ North American Vertical Datum.
# Depth in feet above ground.
** BFEs to be changed include the listed downstream and upstream BFEs, and include BFEs located on the stream reach between the referenced locations above. Please refer to the revised Flood Insurance Rate Map located at the community map repository (see below) for exact locations of all BFEs to be changed.
Send comments to William R. Blanton, Jr., Chief, Engineering Management Branch, Mitigation Directorate, Federal Emergency Management Agency, 500 C Street, SW., Washington, DC 20472.
ADDRESSES
City of Perry
Maps are available for inspection at Perry City Hall, 224 South Jefferson Street, Perry, FL.
Unincorporated Areas of Taylor County
Maps are available for inspection at Taylor County Building/Planning Department, 201 East Green Street, Perry, FL.
Alexander County, Illinois, and Incorporated Areas
Cotton Slough, interior drainage ponding | Unincorporated Alexander County (north of Urbandale, IL) | None | +308 | Unincorporated Areas of Alexander County.
Interior drainage ponding (Goose Pond Pumping Station) | Unincorporated Alexander County (near Urbandale, IL) | None | +309 | Unincorporated Areas of Alexander County.
Mississippi River | One mile upstream of the confluence with the Ohio River | +332 | +331 | City of Cairo, Unincorporated Areas of Alexander County, Village of East Cape Girardeau, Village of McClure, Village of Tamms, Village of Thebes.
| Six miles upstream of State Route 146 (River Mile 58) | +361 | +356 |
Pigeon Creek | At the mouth of Horseshoe Lake | +340 | +336 | Unincorporated Areas of Alexander County.
| At State Route 3 | +343 | +342
* National Geodetic Vertical Datum.
+ North American Vertical Datum.
# Depth in feet above ground.
** BFEs to be changed include the listed downstream and upstream BFEs, and include BFEs located on the stream reach between the referenced locations above. Please refer to the revised Flood Insurance Rate Map located at the community map repository (see below) for exact locations of all BFEs to be changed.
Send comments to William R. Blanton, Jr., Chief, Engineering Management Branch, Mitigation Directorate, Federal Emergency Management Agency, 500 C Street, SW., Washington, DC 20472.
ADDRESSES
City of Cairo
Maps are available for inspection at Cairo City Hall, 1501 Washington Avenue, Cairo, IL 62914.
Unincorporated Areas of Alexander County
Maps are available for inspection at Alexander County, County Clerk's Office, 2000 Washington Avenue, Cairo, IL 62914.
Village of East Cape Girardeau
Maps are available for inspection at East Cape Girardeau Village Hall, 50 Brookwood, McClure, IL 62957.
Village of McClure
Maps are available for inspection at McClure Village Hall, 38204 Grapevine Trail, McClure, IL 62957.
Village of Tamms
Maps are available for inspection at Tamms Village Hall, 425 Front Street, Tamms, IL 62988.
Village of Thebes
Maps are available for inspection at Thebes Village Hall, 413 North 6th Street, Thebes, IL 62990.
Genesee County, Michigan, and Incorporated Areas
Armstrong Creek | Downstream side of Francis Road | +683 | +682 | Township of Flushing.
| Approximately 2,100 feet upstream of Stanley Road | +705 | +708 | Township of Montrose.
Copneconic Lake | Entire shoreline of Copneconic Lake | None | +846 | Township of Fenton.
Fenwin Pond | Entire shoreline of Fenwin Pond | None | +837 | Township of Mundy.
Lum Drain | Downstream side of Moorish Road | None | +778 | Township of Gaines.
| Upstream side of Elms Road | None | +783 |
Pierson Branch of Thread Creek | Approximately 680 feet downstream of S Center Road | None | +766 | City of Burton.
| Approximately 1,500 feet downstream of E Maple Avenue | None | +822 |
Shinanguag Lake | Entire shoreline of Shinanguag Lake | None | +890 | Township of Atlas.
* National Geodetic Vertical Datum.
+ North American Vertical Datum.
# Depth in feet above ground.
** BFEs to be changed include the listed downstream and upstream BFEs, and include BFEs located on the stream reach between the referenced locations above. Please refer to the revised Flood Insurance Rate Map located at the community map repository (see below) for exact locations of all BFEs to be changed.
Send comments to William R. Blanton, Jr., Chief, Engineering Management Branch, Mitigation Directorate, Federal Emergency Management Agency, 500 C Street, SW., Washington, DC 20472.
ADDRESSES
City of Burton
Maps are available for inspection at 4303 South Center Road, Burton, MI 48519.
Township of Atlas
Maps are available for inspection at 7386 Gale Road, Goodrich, MI 48439.
Township of Fenton
Maps are available for inspection at 12060 Mantawauka Drive, Fenton, MI 48430.
Township of Flushing
Maps are available for inspection at 6524 North Seymour Road, Flushing, MI 48433.
Township of Gaines
Maps are available for inspection at 9255 Grand Blanc Road, Gaines, MI 48436.
Township of Montrose
Maps are available for inspection at 139 South Saginaw Street, Montrose, MI 48457.
Township of Mundy
Maps are available for inspection at 3478 Mundy Avenue, Swartz Creek, MI 48473.
Washtenaw County, Michigan, and Incorporated Areas
Allen Creek | Just downstream of Conrail Railroad | +768 | +769 | City of Ann Arbor.
| Approximately 500 feet upstream of E Madison Street | +819 | +820
Allen Creek Diversion | Just upstream of Miller Road | None | +795 | City of Ann Arbor.
| Just downstream of Ann Arbor Railroad | None | +801 |
Letts Creek | Confluence with North Fork Mill Creek | None | +890 | Township of Lima.
| Just upstream of Pierce Road | None | +928
Mill Creek | Mouth at Huron River | None | +838 | Township of Scio.
| Just upstream of North Parker Road | None | +863 | Township of Lima, Township of Webster, Village of Dexter.
Millers Creek | Just upstream of Geddes Road | None | +752 | City of Ann Arbor.
| Approximately 2,000 feet upstream of Baxter Road | None | +883 | Township of Ann Arbor.
Millers Creek Diversion | Just upstream of confluence with Millers Creek | None | +753 | City of Ann Arbor.
| Just downstream of diversion from Millers Creek | None | +771
North Fork Mill Creek | Approximately 800 feet downstream of Fletcher Road | None | +885 | Village of Chelsea, Township of Lima.
| Approximately 300 feet upstream of Conway Road | None | +934 | Township of Sylvan.
North Fork Mill Creek | Entire North Fork Mill Creek within this community. Approximately 800 feet downstream of Fletcher Road | None | +885 | Township of Lima.
| Just downstream of McKinley Road | None | +891
Paint Creek | Washtenaw County Boundary | None | +652 | Township of Augusta.
| Just downstream of East Bemis Road | None | +692
Swift Drain | Mouth at Huron River | None | +754 | City of Ann Arbor.
| Just upstream of East Morgan Road | None | +831 | Charter Township of Pittsfield, Township of Ann Arbor, Village of Chelsea.
Traver Creek | Mouth at Huron River | +762 | +763 | City of Ann Arbor.
| Approximately 2,000 feet upstream of Warren Road (just upstream of SB U.S. 23) | None | +935 | Township of Ann Arbor.
Traver Creek Diversion | At confluence with Traver Creek | None | +901 | City of Ann Arbor.
| At diversion from Traver Creek | None | +907
Tributary To Paint Creek | Approximately 2,400 feet downstream of Munger Road | None | +773 | Charter Township of Pittsfield, Township of Ypsilanti.
| Just downstream of Merritt Road | None | +821
West Branch Paint Creek | Just upstream of confluence with Paint Creek | None | +675 | Township of Augusta.
| Just downstream of East Bemis Road | None | +698
West Park Miller Drain | Just upstream of confluence with Allen Creek | +799 | +801 | City of Ann Arbor.
| Just downstream of Wesley Avenue | +850 | +845
West Park Miller Drain South Branch | Confluence with West Park Miller Drain | +801 | +806 | City of Ann Arbor.
| Approximately 60 feet downstream of North Revena Boulevard | +849 | +851
* National Geodetic Vertical Datum.
+ North American Vertical Datum.
# Depth in feet above ground.
** BFEs to be changed include the listed downstream and upstream BFEs, and include BFEs located on the stream reach between the referenced locations above. Please refer to the revised Flood Insurance Rate Map located at the community map repository (see below) for exact locations of all BFEs to be changed.
Send comments to William R. Blanton, Jr., Chief, Engineering Management Branch, Mitigation Directorate, Federal Emergency Management Agency, 500 C Street, SW., Washington, DC 20472.
ADDRESSES
Charter Township of Pittsfield
Maps are available for inspection at 6201 West Michigan Avenue, Ann Arbor, MI 48108.
City of Ann Arbor
Maps are available for inspection at 100 North Fifth Avenue, Ann Arbor, MI 48104.
Township of Ann Arbor
Maps are available for inspection at 3792 Pontiac Trail, Ann Arbor, MI 48105.
Township of Augusta
Maps are available for inspection at 605 South Main, Whittaker, MI 48190.
Township of Lima
Maps are available for inspection at 11452 Jackson Road, Chelsea, MI 48118.
Township of Scio
Maps are available for inspection at 2355 West Stadium Boulevard, Ann Arbor, MI 48107.
Township of Sylvan
Maps are available for inspection at 18027 Old U.S. Highway 12, Chelsea, MI 48118.
Township of Webster
Maps are available for inspection at 5665 Webster Church Road, Dexter, MI 48130.
Township of Ypsilanti
Maps are available for inspection at 7200 South Huron River Drive, Ypsilanti, MI 48197.
Village of Chelsea
Maps are available for inspection at 104 East Middle Street, Chelsea, MI 48118.
Village of Dexter
Maps are available for inspection at 6880 Dexter-Pinckney Road, Dexter, MI 48130.
Goliad County, Texas, and Incorporated Areas
Maddox Branch | Approximately 65 feet upstream of Fulcord Street | None | +142 | City of Goliad.
| Approximately 1,550 feet upstream of U.S. Highway 183 | +200 | +199
San Antonio River | Approximately 600 feet upstream of confluence with Maddox Branch | None | +142 | City of Goliad.
| Approximately 1,300 feet upstream of South San Patricio Street | None | +147
Southwest City Drain | Approximately 950 feet downstream of Fannin Street | +141 | +147 | City of Goliad.
| Approximately 150 feet upstream of West Oak Street | +194 | +199
Sparrow Branch | Approximately 475 feet downstream of Hord Street | None | +146 | City of Goliad.
| Approximately 825 feet upstream of Sunset Avenue | +196 | +199
* National Geodetic Vertical Datum.
+ North American Vertical Datum.
# Depth in feet above ground.
** BFEs to be changed include the listed downstream and upstream BFEs, and include BFEs located on the stream reach between the referenced locations above. Please refer to the revised Flood Insurance Rate Map located at the community map repository (see below) for exact locations of all BFEs to be changed.
Send comments to William R. Blanton, Jr., Chief, Engineering Management Branch, Mitigation Directorate, Federal Emergency Management Agency, 500 C Street, SW., Washington, DC 20472.
ADDRESSES
City of Goliad
Maps are available for inspection at 152 West End Street, Goliad, TX 77963.
Karnes County, Texas, and Incorporated Areas
Escondido Creek | Approximately 700 feet downstream of confluence with Nichols Creek | +259 | +258 | City of Kenedy.
| Approximately 450 feet upstream of confluence with Panther Creek | None | +274
Marcelinas Creek. | Approximately 730 feet upstream of confluence with Tributary 1 to Marcelinas Creek Watershed | None | +300 | City of Falls City.
| Approximately 830 feet upstream of confluence with Tributary 8 to Marcelinas Creek Watershed | None | +307
Nichols Creek | Approximately 265 ft downstream of S. 2nd Street | +268 | +269 | City of Kenedy.
Ojo de Agua Creek | Approximately 1,050 feet downstream of farm to Market 81 | None | +262 | Town of Runge.
| Approximately 860 feet upstream of confluence with Tributary 9 to Ojo de Agua Watershed | None | +287
San Antonio River | Approximately 460 feet downstream of confluence with Marcelinas Creek | None | +300 | City of Falls City.
| Approximately 1,440 feet downstream of confluence with Tributary 199 to Lower San Antonio River Watershed | None | +304
* National Geodetic Vertical Datum.
+ North American Vertical Datum.
# Depth in feet above ground.
** BFEs to be changed include the listed downstream and upstream BFEs, and include BFEs located on the stream reach between the referenced locations above. Please refer to the revised Flood Insurance Rate Map located at the community map repository (see below) for exact locations of all BFEs to be changed.
Send comments to William R. Blanton, Jr., Chief, Engineering Management Branch, Mitigation Directorate, Federal Emergency Management Agency, 500 C Street, SW., Washington, DC 20472.
ADDRESSES
City of Falls City
Maps are available for inspection at 208 North Irvin Street, Falls City, TX 78113.
City of Kenedy
Maps are available for inspection at 303 West Main Street, Kenedy, TX 78119.
Town of Runge
Maps are available for inspection at 109 North Helena, Runge, TX 78151.
Teton County, Wyoming, and Incorporated Areas
Flat Creek | Approximately 5,100 feet South of the intersection of Wilson Canyon Drive and Highway 89 | *5,976 | *5,974 | Unincorporated Areas of Teton County.
| Approximately 1,350 feet downstream of High School Road | *6,105 | *6,107
* National Geodetic Vertical Datum.
+ North American Vertical Datum.
# Depth in feet above ground.
** BFEs to be changed include the listed downstream and upstream BFEs, and include BFEs located on the stream reach between the referenced locations above. Please refer to the revised Flood Insurance Rate Map located at the community map repository (see below) for exact locations of all BFEs to be changed.
Send comments to William R. Blanton, Jr., Chief, Engineering Management Branch, Mitigation Directorate, Federal Emergency Management Agency, 500 C Street, SW., Washington, DC 20472.
ADDRESSES
Unincorporated Areas of Teton County
Maps are available for inspection at County Administration Building, 200 South Willow Street, Jackson, WY 83001.

(Catalog of Federal Domestic Assistance No. 97.022, “Flood Insurance.”)

Dated: April 18, 2008.
David I. Maurstad,
Federal Insurance Administrator of the National Flood Insurance Program, Department of Homeland Security, Federal Emergency Management Agency.

[FR Doc. E8-9260 Filed 4-28-08; 8:45 am]

BILLING CODE 9110-12-P